ENVIRONMENTAL PROTECTION AGENCY

[EPA-HQ-OPPT-2010-0924; FRL-8854-1]

Sixty-Seventh Report of the TSCA Interagency Testing Committee to the Administrator of the Environmental Protection Agency; Receipt of Report and Request for Comments

AGENCY: Environmental Protection Agency (EPA).

ACTION: Notice.

SUMMARY: The Toxic Substances Control Act (TSCA) Interagency Testing Committee (ITC) transmitted its Sixty-Seventh Report to the Administrator of EPA on November 9, 2010. In the 67th ITC Report, which is included with this notice, the ITC is not making any changes to the TSCA section 4(e) Priority Testing List.

DATES: Comments must be received on or before January 21, 2011.

ADDRESSES: Submit your comments, identified by docket identification (ID) number EPA-HQ-OPPT-2010-0924, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2010-0924. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2010-0924. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: John D. Walker, Interagency Testing Committee (7401M), Office of Pollution Prevention and Toxics, Environmental Protection Agency, 1200 Pennsylvania Ave., NW., Washington, DC 20460-0001; telephone number: (202) 564-7527; fax number: (202) 564-7528; e-mail address: walker.johnd@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This notice is directed to the public in general. It may, however, be of particular interest to you if you manufacture (defined by statute to include import) and/or process TSCA-covered chemicals and you may be identified by the North American Industrial Classification System (NAICS) codes 325 and 32411. Because this notice is directed to the general public and other entities may also be interested, the Agency has not attempted to describe all the specific entities that may be interested in this action. If you have any questions regarding the applicability of this action to a particular entity, consult the technical person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

The Toxic Substances Control Act (TSCA) (15 U.S.C. 260l et seq.) authorizes the Administrator of EPA to promulgate regulations under TSCA section 4(a) requiring testing of chemicals and chemical groups in order to develop data relevant to determining the risks that such chemicals and chemical groups may present to health or the environment. Section 4(e) of TSCA established the ITC to recommend chemicals and chemical groups to the Administrator of EPA for priority testing consideration. Section 4(e) of TSCA directs the ITC to revise the TSCA section 4(e) Priority Testing List at least every 6 months.

You may access additional information about the ITC at http://www.epa.gov/opptintr/itc.

A. The 67th ITC Report

The ITC is not making any changes to the TSCA section 4(e) Priority Testing List.

B. Status of the Priority Testing List

The Priority Testing List includes 2 alkylphenols, 12 lead compounds, 16 chemicals with insufficient dermal absorption rate data, and 207 High Production Volume (HPV) Challenge Program orphan chemicals.

List of Subjects

Environmental protection, Chemicals, Hazardous substances.

Dated: December 14, 2010.
Wendy C. Hamnett,
Director, Office of Pollution Prevention and Toxics.

Sixty-Seventh Report of the TSCA Interagency Testing Committee to the Administrator of the Environmental Protection Agency

Table of Contents

Summary

I. Background

II. ITC's Activities During This Reporting Period (June 2010 to December 2010)

III. The TSCA Interagency Testing Committee

Summary

The ITC is not making any changes to the Toxic Substances Control Act (TSCA) section 4(e) Priority Testing List.

The TSCA section 4(e) Priority Testing List is Table 1 of this unit.

Table 1—TSCA Section 4(e) Priority Testing List
[December 2010]
ITC report | Date | Chemical name/group | Action
31 | January 1993 | 2 Chemicals with insufficient dermal absorption rate data, methylcyclohexane and cyclopentane | Designated.
32 | May 1993 | 10 Chemicals with insufficient dermal absorption rate data | Designated.
35 | November 1994 | 4 Chemicals with insufficient dermal absorption rate data, cyclopentadiene, formamide, 1,2,3-trichloropropane and m-nitrotoluene | Designated.
37 | November 1995 | Branched 4-nonylphenol (mixed isomers) | Recommended.
41 | November 1997 | Phenol, 4-(1,1,3,3-tetramethylbutyl) | Recommended.
55 | December 2004 | 203 High Production Volume (HPV) Challenge Program orphan chemicals | Recommended.
56 | August 2005 | 4 HPV Challenge Program orphan chemicals | Recommended.
60 | May 2007 | 12 Lead and lead compounds | Recommended.

I. Background

The ITC was established by section 4(e) of TSCA “to make recommendations to the Administrator respecting the chemical substances and mixtures to which the Administrator should give priority consideration for the promulgation of rules for testing under section 4(a) * * * At least every six months * * *, the Committee shall make such revisions to the Priority Testing List as it determines to be necessary and transmit them to the Administrator together with the Committee's reasons for the revisions” (Public Law 94-469, 90 Stat. 2003 et seq., 15 U.S.C. 2601 et seq.). ITC reports are available from the ITC's website (http://www.epa.gov/opptintr/itc) within a few days of submission to the EPA Administrator and from regulations.gov (http://www.regulations.gov) after publication in the Federal Register. The ITC produces its revisions to the Priority Testing List with administrative and technical support from the ITC staff, ITC members, and their U.S. Government organizations, and contract support provided by EPA. ITC members and staff are listed at the end of this report.

II. ITC's Activities During This Reporting Period (June 2010 to December 2010)

During this reporting period, the ITC reviewed the Nonylphenol (NP) & Nonylphenol Ethoxylates (NPEs) Action Plan available at http://www.epa.gov/oppt/existingchemicals/pubs/actionplans/np-npe.html.

III. The TSCA Interagency Testing Committee

Statutory Organizations and Their Representatives

Council on Environmental Quality

Diane Poster, Alternate.

Department of Commerce

National Institute of Standards and Technology

Carlos Gonzalez, Member.

National Oceanographic and Atmospheric Administration

Kimani Kimbrough, Member.

Environmental Protection Agency

John Schaeffer, Member, Vice-Chair.

National Cancer Institute

Vacant.

National Institute of Environmental Health Sciences

Nigel Walker, Member.

Scott Masten, Alternate.

National Institute for Occupational Safety and Health

Gayle DeBord, Member.

Dennis W. Lynch, Alternate.

National Science Foundation

Margaret Cavanaugh, Alternate.

Occupational Safety and Health Administration

Thomas Nerad, Member, Chair.

Liaison Organizations and Their Representatives

Agency for Toxic Substances and Disease Registry

Daphne Moffett, Member.

Glenn D. Todd, Alternate.

Consumer Product Safety Commission

Dominique Williams, Member.

Department of Agriculture

Clifford P. Rice, Member.

Laura L. McConnell, Alternate.

Department of Defense

Vacant.

Department of the Interior

Barnett A. Rattner, Member.

Food and Drug Administration

Kirk Arvidson, Member.

Ronald F. Chanderbhan, Alternate.

TSCA Interagency Testing Committee Staff

Technical Support Contractor

Syracuse Research Corporation.

Environmental Protection Agency

John D. Walker, Director.

Carol Savage, Administrative Assistant (NOWCC Employee).

TSCA Interagency Testing Committee (7401M), Office of Pollution Prevention and Toxics, Environmental Protection Agency, 1200 Pennsylvania Ave., NW., Washington, DC 20460-0001; e-mail address: savage.carol@epa.gov; url: http://www.epa.gov/opptintr/itc.

[FR Doc. 2010-32149 Filed 12-21-10; 8:45 am]

BILLING CODE 6560-50-P